DEPARTMENT OF TRANSPORTATION

Federal Motor Carrier Safety Administration

[Docket No. FMCSA-2013-0147]

Qualification of Drivers; Skill Performance Evaluation; Virginia Department of Motor Vehicles Application for Renewal Exemption

AGENCY: Federal Motor Carrier Safety Administration (FMCSA), DOT.

ACTION: Notice of final disposition.

SUMMARY: FMCSA announces its decision to renew the exemption for the Commonwealth of Virginia, Virginia Department of Motor Vehicles (DMV) from the requirement that the Skill Performance Evaluation (SPE) Certificate be issued to interstate truck and bus drivers by the FMCSA. The exemption enables interstate commercial motor vehicle (CMV) drivers who are licensed in Virginia and are subject to the Federal SPE requirements, Alternative physical qualification standards for the loss or impairment of limbs, to continue to fulfill the Federal requirements with a State-issued SPE Certificate, and to operate CMVs in interstate commerce anywhere in the United States.

DATES: This exemption was applicable on July 8, 2018. The exemption expires July 8, 2023.

FOR FURTHER INFORMATION CONTACT: Ms. Christine A. Hydock, Chief, Medical Programs Division, 202-366-4001, fmcsamedical@dot.gov, FMCSA, Department of Transportation, 1200 New Jersey Avenue SE, Room W64-224, Washington, DC 20590-0001. Office hours are from 8:30 a.m. to 5:30 p.m., ET, Monday through Friday, except Federal holidays. If you have questions regarding viewing or submitting material to the docket, contact Docket Services, telephone (202) 366-9826.

SUPPLEMENTARY INFORMATION:

I. Public Participation

A. Viewing Documents and Comments

To view comments, as well as any documents mentioned in this notice as being available in the docket, go to http://www.regulations.gov. Insert the docket number, FMCSA 2013-0147, in the keyword box, and click “Search.” Next, click the “Open Docket Folder” button and choose the document to review. If you do not have access to the internet, you may view the docket online by visiting the Docket Management Facility in Room W12-140 on the ground floor of the DOT West Building, 1200 New Jersey Avenue SE, Washington, DC 20590, between 9 a.m. and 5 p.m., ET, Monday through Friday, except Federal holidays.

B. Privacy Act

In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

II. Background

On July 30, 2018, FMCSA published a notice announcing its decision to renew the Commonwealth of Virginia Department of Motor Vehicles (DMV) exemption, allowing them to issue SPE Certificates on behalf of FMCSA, and requested comments from the public (83 FR 36666). The public comment period ended on August 29, 2018, and no comments were received.

As stated in the previous notice, FMCSA has completed the evaluation of Virginia DMV's eligibility for exemption renewal and determined that renewing the exemption would achieve a level of safety equivalent to or greater than the level that would be achieved by complying with the current regulation that requires SPE Certificates to be issued by FMCSA.

III. Discussion of Comments

FMCSA received no comments in this preceding.

IV. Conclusion

In accordance with 49 U.S.C. 31136(e) and 31315, this exemption will be valid for five years unless revoked earlier by FMCSA. The exemption will be revoked if the following occurs: (1) Virginia does not establish and maintain its own SPE program that is essentially identical to the current FMCSA program; (2) The State does not maintain an application process modeled on the FMCSA process and submit information concerning the application process to FMCSA's Medical Programs Division for review, as required; (3) State personnel who conduct the skill performance test do not complete SPE training identical to that of FMCSA personnel currently administering the Federal SPE program; (4) The skill evaluation and scoring for the SPE is not completed using the same procedures and testing criteria used by FMCSA; (5) Virginia does not maintain records of applications, testing, and certificates issued for periodic review by FMCSA; (6) Virginia does not submit a monthly report to FMCSA listing the names and license number of each driver tested by the State and the result of the test (pass or fail); and (7) Each driver who receives a State-issued SPE does not carry a copy of the certificate when driving for presentation to authorized Federal, State, or local law enforcement officials.

Issued on: February 1, 2019.
Raymond P. Martinez,
Administrator.

[FR Doc. 2019-01995 Filed 2-11-19; 8:45 am]

BILLING CODE 4910-EX-P